NUCLEAR REGULATORY COMMISSION

[NRC-2018-0091]

Relocation of Regulatory Issue Summary Notices in the Federal Register

AGENCY: Nuclear Regulatory Commission.

ACTION: Categorization of notice.

SUMMARY: The Nuclear Regulatory Commission (NRC) is notifying the public that documents regarding draft and final Regulatory Issue Summaries that historically have published in the “Notices” section of the Federal Register will now be published in the “Proposed Rules” and “Rules and Regulations” sections of the Federal Register. The Office of the Federal Register (OFR) recently informed the NRC that under OFR guidelines, these documents fall into the “Proposed Rules” and “Rules and Regulations” categories and requested that NRC reclassify these notices.

ADDRESSES: Please refer to Docket ID NRC-2018-0091 when contacting the NRC about the availability of information regarding this document. You may obtain publicly-available information related to this document using any of the following methods:

• Federal Rulemaking Website: Go to http://www.regulations.gov and search for Docket ID NRC-2018-0091. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Anthony de Jesus, Office of the General Counsel, U.S. Nuclear Regulatory Commission, Washington, DC 20555-0001; telephone: 301-287-9219, email: Anthony.deJesus@nrc.gov.

SUPPLEMENTARY INFORMATION: The NRC issues Regulatory Issue Summaries to communicate with stakeholders on a broad range of matters. This may include clarification of existing requirements and regulations. This may also include communicating and clarifying the NRC's technical or policy positions on regulatory matters that have not been communicated to, or are not broadly understood by, the nuclear industry. Documents regarding Regulatory Issue Summaries historically have been published in the “Notices” section of the Federal Register.

Under the Federal Register Act (44 U.S.C. chapter 15), the Administrative Committee of the Federal Register issues regulations regarding publishing documents in the Federal Register (see chapter I of title 1 of the Code of Federal Regulations (1 CFR)). Based on these governing regulations, the OFR classifies agency documents published in the Federal Register in one of three categories: Rules and regulations, proposed rules, and notices. The regulation establishing document types is available in 1 CFR 5.9.

In accordance with the OFR's request that the NRC reclassify Regulatory Issue Summaries, these documents will be published in the “Proposed Rules” or “Rules and Regulations” section of the Federal Register. This change is effective immediately.

Dated at Rockville, Maryland, this 2nd day of May 2018.
For the Nuclear Regulatory Commission.
Cindy K. Bladey,
Federal Register Liaison Officer, Division of Rulemaking, Office of Nuclear Material Safety and Safeguards.

[FR Doc. 2018-09687 Filed 5-7-18; 8:45 am]

BILLING CODE 7590-01-P